DEPARTMENT OF AGRICULTURE

Forest Service

Southwest Oregon Province Interagency Executive Committee (PIEC) Advisory Committee

AGENCY: Forest Service, USDA.

ACTION: Notice of meeting.

SUMMARY: The Southwest Oregon PIEC Advisory Committee will meet on June 8, 2000 in Roseburg, Oregon at the Roseburg Bureau of Land Management Office at 777 NW Garden Valley Blvd. The meeting will begin at 9:00 a.m. and continue until 5 p.m. Agenda items to be covered include: (1) Forest Service Roadless Initiative; (2) Public Comment; (3) Implementation Monitoring; (4) Refinement of Province Dead and Wood Policy; and (4) Current issues as perceived by Advisory Committee members.

FOR FURTHER INFORMATION CONTACT: Direct questions regarding this meeting to Roger Evenson, Province Advisory Committee Coordinator, USDA, Forest Service, Umpqua National Forest, 2900 NW Stewart Parkway, Roseburg, Oregon 97470, phone (541) 957-3344.

Dated: May 16, 2000.
Michael D. Hupp,
Acting Designated Federal Official.

[FR Doc. 00-12738 Filed 5-19-00; 8:45 am]

BILLING CODE 3410-11-M